DEPARTMENT OF VETERANS AFFAIRS

[OMB Control No. 2900-0783 (10-10073, 10073a, 10073b, 10073c)]

Agency Information Collection Activity: (Nonprofit Research and Education Corporations (NPCs) Data Collection)

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before January 13, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0783” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0783.”

SUPPLEMENTARY INFORMATION:

Titles: Nonprofit Research and Education Corporations (NPCs) Data Collection.

a. Annual Report Template, VA Form 10-10073.

b. Audit Actions Items Remediation Plans, VA Form 10-10073 A.

c. NPPO Internal Control Questionnaire, VA Form 10-10073 B.

d. NPPO Operations Oversight Questionnaire, VA Form 10-10073 C.

OMB Control Number: 2900-0783.

Type of Review: Extension of a currently approved collection.

Abstract: The combined NPC Annual Report to Congress is described in Section 7366 (d) “The Secretary (DVA) shall submit to the Committees on Veterans' Affairs of the Senate and House of Representatives an annual report on the corporations (NPCs) established under this subchapter.” Section 7366(d) goes on to list some of the specific information required by Congress. The sources for all of the information contained in the NPC Annual Report to Congress are the individual NPC Annual Report Templates submitted by each of the NPCs.

Affected Public: Individuals or households.

Estimated Annual Burden: 858 burden hours.

a. NPC Annual Report Template—301 hrs.

b. NPC Audit Actions Items Remediation Plans—84 hrs.

c. NPPO Internal Control Questionnaire—344 hrs.

d. NPPO Operations Oversight Questionnaire—129 hrs.

Estimated Average Burden per Respondent:

a. NPC Annual Report Template—210 minutes.

b. NPC Audit Actions Items Remediation Plans—120 minutes.

c. NPPO Internal Control Questionnaire—240 minutes.

d. NPPO Operations Oversight Questionnaire—90 minutes.

Frequency of Response: One-time.

Estimated Number of Respondents: 300.

a. NPC Annual Report Template—86.

b. NPC Audit Actions Items Remediation Plans—42.

c. NPPO Internal Control Questionnaire—86.

d. NPPO Operations Oversight Questionnaire—86.

By direction of the Secretary.
Cynthia Harvey-Pryor,
VA Clearance Officer, Office of Privacy and Records Management, Department of Veterans Affairs.

[FR Doc. 2016-29978 Filed 12-13-16; 8:45 am]

BILLING CODE 8320-01-P